DEPARTMENT OF COMMERCE

International Trade Administration

[A-428-845]

Certain Cold-Drawn Mechanical Tubing of Carbon and Alloy Steel From the Federal Republic of Germany: Rescission of Antidumping Duty Administrative Review: 2017-2019

AGENCY: Enforcement and Compliance, International Trade Administration, Department of Commerce.

SUMMARY: The Department of Commerce (Commerce) is rescinding the administrative review of the antidumping duty order on certain cold-drawn mechanical tubing of carbon and alloy steel (cold-drawn mechanical tubing) from the Federal Republic of Germany (Germany) for the period of review November 22, 2017, through May 31, 2019.

DATES: Applicable November 7, 2019.

FOR FURTHER INFORMATION CONTACT: Laurel LaCivita, AD/CVD Operations, Office III, Enforcement and Compliance, International Trade Administration, Department of Commerce, 1401 Constitution Avenue NW, Washington, DC 20230; telephone: (202) 482-4243.

SUPPLEMENTARY INFORMATION:

Background

On June 3, 2019, Commerce published a notice of opportunity to request an administrative review of the antidumping duty order on cold-drawn mechanical tubing from Germany for the period November 22, 2017, through May 31, 2019.¹ Pursuant to a timely request from ArcelorMittal Tubular Products LLC, Michigan Seamless Tube, LLC, PTC Alliance Corp., and Webco Industries, Inc., (the petitioners),² in accordance with section 751(a) of the Tariff Act of 1930, as amended (the Act), and 19 CFR 351.221(c)(1)(i), Commerce initiated an administrative review of the antidumping duty order on cold-drawn mechanical tubing from Germany on July 29, 2019, with respect to six companies: BENTELER Steel/Tube GmbH (Benteler); BENTELER Distribution International GmbH (BDI); Mubea Fahrwerksfedern GmbH (Mubea Fahrwerksfedern); Salzgitter Mannesmann Line Pipe GmbH (Salzgitter Mannesmann Line Pipe); Salzgitter Mannesmann Precision GmbH (Salzgitter Mannesmann Precision); and, VSMPO Tirus GmbH (VSMPO Tirus).³ On October 8, 2019, the petitioners timely withdrew their request for an administrative review of all of the companies named in their July 1, 2019, request for review,⁴ except for Benteler and BDI.⁵ On October 23, 2019, the petitioners timely withdrew their request for an administrative review with respect to all entities for which they had requested a review.⁶

¹ See Antidumping or Countervailing Duty Order, Finding, or Suspended Investigation; Opportunity to Request Administrative Review, 84 FR 25521 (June 3, 2019).

² See Petitioners' Letter, “Cold-Drawn Mechanical Tubing from Germany—Domestic Industry's Request for First Administrative Review,” dated July 1, 2019.

³ See Initiation of Antidumping and Countervailing Duty Administrative Reviews, 84 FR 36572 (July 29, 2019).

⁴ See Petitioners' Letter, “Cold-Drawn Mechanical Tubing from Germany—Domestic Industry's Request for First Administrative Review,” dated July 1, 2019.

⁵ See Petitioners' Letter, “Cold-Drawn Mechanical Tubing from Germany—Domestic Industry's Partial Withdrawal of Request for First Administrative Review,” dated October 8, 2019.

⁶ See Petitioners' Letter, “Cold-Drawn Mechanical Tubing from Germany—Domestic Industry's Withdrawal of Request for First Administrative Review,” dated October 23, 2019.

Rescission of Review

Pursuant to 19 CFR 351.213(d)(1), Commerce will rescind an administrative review, in whole or in part, if the party that requested the review withdraws its request within 90 days of the publication date of the notice of initiation of the requested review. The petitioners, who were the only parties to request a review, withdrew their request within the 90-day deadline. Accordingly, we are rescinding the administrative review of cold-drawn mechanical tubing from Germany for the period November 22, 2017, through May 31, 2019, in its entirety.

Assessment

Commerce will instruct U.S. Customs and Border Protection (CBP) to assess antidumping duties on all appropriate entries of cold-drawn mechanical tubing from Germany. Antidumping duties shall be assessed at rates equal to the cash deposit rate of estimated antidumping duties required at the time of entry, or withdrawal from warehouse, for consumption, in accordance with 19 CFR 351.212(c)(1)(i). Commerce intends to issue appropriate assessment instructions to CBP 15 days after publication of this notice in the Federal Register.

Notification to Importers

This notice serves as the only reminder to importers whose entries will be liquidated as a result of this rescission notice, of their responsibility under 19 CFR 351.402(f)(2) to file a certificate regarding the reimbursement of antidumping duties prior to liquidation of the relevant entries during this review period. Failure to comply with this requirement could result in the presumption that reimbursement of the antidumping duties occurred and the subsequent assessment of double antidumping duties.

Notification Regarding Administrative Protective Order

This notice also serves as the only reminder to all parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act and 19 CFR 351.213(d)(4).

Dated: November 1, 2019.
James Maeder,
Deputy Assistant Secretary for Antidumping and Countervailing Duty Operations.

[FR Doc. 2019-24311 Filed 11-6-19; 8:45 am]

BILLING CODE 3510-DS-P